DEPARTMENT OF HOMELAND SECURITY

Coast Guard

33 CFR Part 100

[Docket No. USCG-2012-0780]

Special Local Regulations for Marine Events; San Francisco Bay Navy Fleet Week Parade of Ships and Blue Angels Demonstration, San Francisco Bay, CA

AGENCY: Coast Guard, DHS.

ACTION: Notice of enforcement of regulation.

SUMMARY: The Coast Guard will enforce the special local regulations in the navigable waters of San Francisco Bay for the annual U.S. Navy and City of San Francisco sponsored Fleet Week Parade of Navy Ships, Blue Angels Flight Demonstrations, Ship Tours, and America's Cup World Series regattas to be held from October 4, 2012 through October 7, 2012. This action is necessary to ensure the safety of event participants and spectators. During the enforcement period, no persons or vessels may enter the regulated area without permission of the Captain of the Port (COTP) or her designated representative.

DATES: The regulations in 33 CFR 100.1105(c)(1), regulated area “Alpha” for Navy Parade of Ships, will be enforced from 10:30 a.m. to 12:15 p.m. on October 6, 2012. The regulations in 33 CFR 100.1105(c)(2), regulated area “Bravo” for the U.S. Navy Blue Angels Activities and America's Cup World Series regattas will be enforced from noon until 6:30 p.m. on October 4; from 11:45 a.m. until 6 p.m. on October 5; from 11:45 a.m. until 6:30 p.m. on October 6, 2012; and from 11:15 a.m. until 4 p.m. on October 7, 2012.

FOR FURTHER INFORMATION CONTACT: If you have questions on this notice, call or email Ensign William Hawn, U.S. Coast Guard Sector San Francisco; telephone (415) 399-7442 or email at D11-PF-MarineEvents@uscg.mil.

SUPPLEMENTARY INFORMATION: The Coast Guard will enforce the special local regulation for the annual San Francisco Bay Navy Fleet Week Parade of Ships and Blue Angels Demonstration in accordance with 33 CFR 100.1105.

Regulations for the Navy Parade of Ships will be enforced from 10:30 a.m. to 12:15 p.m. on October 6, 2012. Under the provisions of 33 CFR 100.1105, no person or vessel may enter or remain in regulated area “Alpha” within 500 yards of all parade vessels. No person or vessel shall anchor, block, loiter in, or impede the transit of the ship parade participants or official patrol vessels.

During the 2012 Fleetweek events, America's Cup World Series regattas will be held in conjunction with the U.S. Navy Blue Angels Activities as per an official agreement made between the America's Cup Race Management and the Fleetweek program coordinators. Regulations for the U.S. Navy Blue Angels Activities and the America's Cup World Series regattas will be enforced from noon until 6:30 p.m. on October 4, from 11:45 a.m. until 6 p.m. on October 5, from 11:45 a.m. until 6:30 p.m. on October 6, 2012, and from 11:15 a.m. until 4 p.m. on October 7, 2012. Within regulated area “Bravo” established in 33 CFR 100.1105(b)(2), no person or vessel may enter or remain within the waters of San Francisco Bay bounded by a line connecting the following points: beginning at 37° 49.096″ N, 122° 27.055' W, thence to 37° 49.389″ N, 122° 24.354″ W, thence to 37° 48.888″ N, 122° 24.272″ W, thence to 37° 48.598' N, 122° 26.973″ W and thence to the point of beginning (“Fleet Week box”) (NAD 83).

In the southern portion of regulated area “Bravo,” the Coast Guard will enforce a no-loitering area 75-yards south of the Fleet Week box, extending west from Pier 45 and ending at the western edge of the Fleet Week box. While transiting this no-loitering area, vessels shall proceed at a safe speed as not to cause a wake. This requirement will be strictly enforced to preserve the safety of both life and property. Except for persons or vessels authorized by the Patrol Commander, no person or vessel may anchor or loiter in the areas described above within regulated area “Bravo.”

When hailed by U.S. Coast Guard patrol personnel by siren, radio, flashing light, or other means, a person or vessel shall come to an immediate stop. Persons or vessels shall comply with all directions given; failure to do so may result in expulsion from the area, citation for failure to comply, or both. The Coast Guard may be assisted by other Federal, State, or local law enforcement agencies in enforcing this regulation.

This notice is issued under authority of 33 CFR 100.1105 and 5 U.S.C 552 (a). In addition to this notice in the Federal Register, the Coast Guard will provide the maritime community with extensive advance notification of this enforcement period via the Local Notice to Mariners, and Broadcast Notice to Mariners.

Dated: September 18, 2012.
Cynthia L. Stowe,
Captain, U.S. Coast Guard, Captain of the Port San Francisco.

[FR Doc. 2012-24044 Filed 9-28-12; 8:45 am]

BILLING CODE 9110-04-P